DEPARTMENT OF COMMERCE

International Trade Administration

Overseas Trade Missions

AGENCY: International Trade Administration, Department of Commerce.

ACTION: Revised notice.

SUMMARY: This corrects dates shown for two Department of Commerce overseas trade missions listed in Federal Register, Vol. 66, No. 233, Tuesday, December 4, 2001, page 63019. The notice for these two trade missions should read:

The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Benelux Environmental Technologies Trade Mission

The Hague, Netherlands, and Brussels Belgium,March 4-8, 2002,Recruitment closes on January 18, 2002.

FOR FURTHER INFORMATION CONTACT: Mr. David Fiscus, U.S. Department of Commerce, telephone 202-482-1599, or e-mail David.Fiscus@mail.doc.gov.

Benelux Information and Communications Technology Trade Mission

Amsterdam, Netherlands, and Brussels Belgium,May 13-17, 2002,Recruitment closes on April 10, 2002.

FOR FURTHER INFORMATION CONTACT: Mr. David Fiscus, U.S. Department of Commerce, telephone 202-482-1599, or e-mail David.Fiscus@mail.doc.gov.

FOR FURTHER INFORMATION CONTACT: Thomas Nisbet, U.S. Department of Commerce, telephone 202-482-5657, or e-mail Tom_Nisbet@ita.doc.gov.

Dated: December 7, 2001.
Thomas H. Nisbet,
Director, Promotion Planning and Support Division,Office of Export Assistance and Business Outreach.

[FR Doc. 01-30758 Filed 12-11-01; 8:45 am]

BILLING CODE 3510-D-R-F-P